DEPARTMENT OF JUSTICE

Notice of Lodging Proposed Consent Decree

In accordance with Departmental Policy, 28 CFR 50.7, notice is hereby given that a proposed Consent Decree in United States v. Saratoga Springs Owners Association, Inc., et al., Case No. 2:17-cv-01244-DAK-BCW, was lodged with the United States District Court for the District of Utah, Central Division, on October 1, 2018.

This proposed Consent Decree concerns a complaint filed by the United States against the Saratoga Springs Owners Association, Inc. and Cross Marine Projects, Inc., pursuant to sections 301(a), 309(b), and 309(d) of the Clean Water Act, 33 U.S.C. 1311(a), 1319(b), and 1319(d), to obtain injunctive relief from and impose civil penalties against the Defendants for violating the Clean Water Act by discharging pollutants without a permit into waters of the United States. The proposed Consent Decree resolves these allegations by requiring the Defendants to restore the impacted areas, perform mitigation, and pay a civil penalty.

The Department of Justice will accept written comments relating to this proposed Consent Decree for thirty (30) days from the date of publication of this Notice. Please address comments to David A. Carson, Senior Trial Counsel, United States Department of Justice, Environment and Natural Resources Division, 999 18th Street, South Terrace, Suite 370, Denver, Colorado 80202, and refer to United States v. Saratoga Springs Owners Association, et al., DJ#90-5-1-1-20715.

The proposed Consent Decree may be examined at the Clerk's Office, United States District Court for the District of Utah, 351 South West Temple, Room 1.100, Salt Lake City, Utah 84101. In addition, the proposed Consent Decree may be examined electronically at http://www.justice.gov/enrd/consent-decrees.

Cherie L. Rogers,
Assistant Section Chief, Environmental Defense Section, Environment and Natural Resources Division.

[FR Doc. 2018-21770 Filed 10-5-18; 8:45 am]

BILLING CODE 4410-15-P